DEPARTMENT OF TRANSPORTATION

Federal Aviation Administration

14 CFR Part 39

[Docket No. 2000-CE-15-AD]

RIN 2120-AA64

Airworthiness Directives; Raytheon Aircraft Company Beech Models A36 and B36TC Airplanes

AGENCY: Federal Aviation Administration, DOT.

ACTION: Notice of proposed rulemaking (NPRM).

SUMMARY: This document proposes to adopt a new airworthiness directive (AD) that would apply to certain Raytheon Aircraft Corporation (Raytheon) Beech Models A36 and B36TC airplanes. The proposed AD would require you to inspect for the installation of firewall sealant and install firewall sealant if not present. The proposed AD is the result of a report that firewall sealant was not found during a routine production inspection. The actions specified by the proposed AD are intended to correct the absence of sealant and prevent the consequent entry of smoke or fire into the flight compartment or cabin in the event of an engine compartment fire.

DATES: The Federal Aviation Administration (FAA) must receive any comments on this proposed rule on or before September 18, 2000.

ADDRESSES: Submit comments in triplicate to FAA, Central Region, Office of the Regional Counsel, Attention: Rules Docket No. 2000-CE-15-AD, 901 Locust, Room 506, Kansas City, Missouri 64106. You may inspect comments at this location between 8 a.m. and 4 p.m., Monday through Friday, except holidays.

You may get the service information referenced in the proposed AD from Raytheon Aircraft Company, P.O. Box 85, Wichita, Kansas 67201-0085; telephone: (800) 429-5372 or (316) 676-3140; on the Internet at <http://www.raytheon.com/rac/servinfo/53-3375.pdf>. This file is in Adobe Portable Document Format. The Acrobat Reader is available at

<http://www.adobe.com/>.

You may examine this information at the Rules Docket at the address above.

FOR FURTHER INFORMATION CONTACT: Jeff Pretz, Aerospace Engineer, Wichita Aircraft Certification Office, FAA, 1801 Airport Road, Mid-Continent Airport, Wichita, Kansas 67209; telephone: (316) 946-4153; facsimile: (316) 946-4407.

SUPPLEMENTARY INFORMATION:

Comments Invited

How do I comment on this AD? We invite your comments on the proposed rule. You may submit whatever written data, views, or arguments you choose. You need to include the rule's docket number and submit your comments in triplicate to the address specified under the caption ADDRESSES. We will consider all comments received on or before the closing date specified above, before taking action on the proposed rule. We may change the proposals contained in this notice in light of the comments received.

Are there any specific portions of the AD I should pay attention to? The FAA specifically invites comments on the overall regulatory, economic, environmental, and energy aspects of the proposed rule that might necessitate a need to modify the proposed rule. You may examine all comments we receive. We will file a report in the Rules Docket that summarizes each FAA contact with the public that concerns the substantive parts of this proposal.

The FAA is re-examining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 2000-CE-15-AD.” We will date stamp and mail the postcard back to you.

Discussion

What events have caused this AD? Raytheon recently notified FAA that a Beech Model A36 airplane did not have sealant between the faying surfaces of the part number (P/N) 109-361023-13 tube assembly fitting and the P/N 36-430054-69 upper firewall panel. Raytheon found this condition during a routine production process inspection.

Other airplanes that were part of this particular production process are:

Beech Model A36

serial numbers E-3113 through E-3231

E-3233 through E-3263

E-3265 through E-3267

E-3269, E-3271, E-3273, and E-3277

Model B36TC

serial numbers EA-594 through EA-644

What are the consequences if the condition is not corrected? This condition, if not corrected, could result in smoke or fire penetrating the firewall and entering the flight compartment or cabin.

Relevant Service Information

What service information applies to this subject? Raytheon has issued Mandatory Service Bulletin No. SB 53-3375, dated December 1999.

What are the provisions of this service bulletin? The service bulletin describes procedures for inspecting for, and applying, sealant between the tube assembly fitting and the upper firewall panel on the airplanes specified above.

The FAA's Determination and an Explanation of the Provisions of the Proposed AD

What has FAA decided? After examining the circumstances and reviewing all available information related to the events described above, we have determined that:

• The unsafe condition referenced in this document could exist on other Raytheon Beech Models A36 and B36TC airplanes of the same type design;

• These airplanes should have the actions specified in the above service bulletin incorporated; and

• The FAA should take AD action in order to correct this unsafe condition.

What does this proposed AD require? This proposed AD would require you to:

• Inspect for the installation of firewall sealant; and

• Install firewall sealant if not present.

What are the differences between the service bulletin and the proposed AD? Raytheon Aircraft requires you to inspect and, if necessary, install firewall sealant as soon as possible after receiving the service bulletin, but no later than the next 25 flight hours. We propose a requirement that you inspect and, if necessary, install firewall sealant within 50 hours time-in-service (TIS) of operation after the effective date of the proposed AD. We do not have justification to require this action within 25 hours TIS. Compliance times such as this are utilized when we have identified an urgent safety of flight situation. We believe that 50 hours TIS will give the owners/operators of the affected airplanes enough time to have the proposed actions accomplished without compromising the safety of the airplanes.

Cost Impact

How many airplanes does this proposed AD impact? We estimate that the proposed AD would affect 134 airplanes in the U.S. registry.

What is the cost impact of the proposed action for the affected airplanes on the U.S. Register? We estimate that it would take approximately 1 workhour per airplane to accomplish the proposed inspection, at an average labor rate of $60 an hour. Based on the figures presented above, we estimate that the total cost impact of the proposed inspection on U.S. operators is $8,040, or $60 per airplane.

We estimate that it would take approximately 2 workhours per airplane to accomplish the proposed modification, at an average labor rate of $60 an hour. Based on the figures presented above, we estimate that the total cost impact of the proposed modification on U.S. operators is $120 per airplane.

The manufacturer will allow warranty credit for labor and parts to the extent noted in the service bulletin.

Regulatory Impact

Does this proposed AD impact relations between Federal and State governments? The proposed regulations would not have substantial direct effects on the States, on the relationship between the national government and the States, or on the distribution of power and responsibilities among the various levels of government. It is determined that this proposed rule would not have federalism implications under Executive Order 13132.

Does this proposed AD involve a significant rule or regulatory action? For the reasons discussed above, I certify that this proposed action (1) is not a “significant regulatory action” under Executive Order 12866; (2) is not a “significant rule” under Department of Transportation Regulatory Policies and Procedures (44 FR 11034, February 26, 1979); and (3) if put into effect will not have a significant economic impact, positive or negative, on a substantial number of small entities under the criteria of the Regulatory Flexibility Act. We have placed a copy of the draft regulatory evaluation prepared for this action in the Rules Docket. You may obtain a copy of it by contacting the Rules Docket at the location provided under the caption ADDRESSES.

List of Subjects in 14 CFR Part 39

Air transportation, Aircraft, Aviation safety, Safety.

The Proposed Amendment

Accordingly, under the authority delegated to me by the Administrator, the Federal Aviation Administration (FAA) proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Raytheon Aircraft Company: Docket No. 2000-CE-15-AD.

(a) What airplanes are affected by this AD? This AD affects the following airplanes, certificated in any category:

Beech Model A36

serial numbers E-3113 through E-3231

E-3233 through E-3263

E-3265 through E-3267

E-3269, E-3271, E-3273, and E-3277

Model B36TC

serial numbers EA-594 through EA-644

(b) Who must comply with this AD? Anyone who wishes to operate any of the above airplanes on the U.S. Register must comply with this AD.

(c) What problem does this AD address? The actions specified by this AD are intended to correct the lack of a firewall seal and consequent progression of fire and smoke through the firewall panel into the flight compartment or cabin in the event of an engine compartment fire.

(d) What must I do to address this problem? To address this problem, you must accomplish the following actions:

Actions | Compliance time | Procedures
(1) Inspect for sealant between the faying surfaces of the part number (P/N) 109-361023-13 tube assembly fitting and the P/N 36-430054-69 upper firewall panel (i) If sealant is present, no further action is necessary. (ii) If sealant is not present, apply sealant to the tube assembly and the upper firewall panel. | Inspection required within 50 hours time-in-service after the effective date of this AD, and sealant application required before further flight after the inspection | Accomplish all actions in accordance with the ACCOMPLISHMENT INSTRUCTIONS section of Raytheon mandatory Service Bulletin SB 53-3375, Issued: December 1999.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? You can contact Jeff Pretz, Aerospace Engineer, Wichita Aircraft Certification Office, FAA, 1801 Airport Road, Mid-Continent Airport, Wichita, Kansas 67209; telephone: (316) 946-4153; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Raytheon Aircraft Company, P.O. Box 85, Wichita, Kansas 67201-0085; telephone: (800) 429-5372 or (316) 676-3140; on the Internet at <http://www.raytheon.com/rac/servinfo/53-3375.pdf>. This file is in Adobe Portable Document Format. The Acrobat Reader is available at <http://www.adobe.com/>. You may examine this document at FAA, Central Region, Office of the Regional Counsel, 901 Locust, Room 506, Kansas City, Missouri 64106.

Issued in Kansas City, Missouri, on August 9, 2000.
Michael Gallagher,
Manager, Small Airplane Directorate, Aircraft Certification Service.

[FR Doc. 00-20778 Filed 8-15-00; 8:45 am]

BILLING CODE 4910-13-U